DEPARTMENT OF COMMERCE

International Trade Administration

[A-580-891]

Carbon and Alloy Steel Wire Rod From the Republic of Korea: Final Results of Antidumping Duty Changed Circumstances Review

AGENCY: Enforcement and Compliance, International Trade Administration, Department of Commerce.

SUMMARY: The Department of Commerce (Commerce) is revoking, in part, the antidumping duty order on carbon and alloy steel wire rod (wire rod) from the Republic of Korea (Korea) with respect to value spring quality (VSQ) wire rod.

DATES: Applicable June 13, 2019.

FOR FURTHER INFORMATION CONTACT: Thomas Dunne, AD/CVD Operations, Office VII, Enforcement and Compliance, International Trade Administration, U.S. Department of Commerce, 1401 Constitution Avenue NW, Washington, DC 20230; telephone 202-482-2328.

SUPPLEMENTARY INFORMATION:

Background

On March 15, 2019, Commerce initiated and published the Preliminary Results,¹ determining that domestic producers ² accounting for substantially all of the production of the domestic like product to which the antidumping duty order (AD Order) ³ pertains, lacked interest in the relief provided by the AD Order with respect to valve spring quality (VSQ) wire rod from Korea. Commerce provided interested parties with an opportunity to comment on our Preliminary Results. We received no comments on our Preliminary Results.

¹ See Carbon and Alloy Steel Wire Rod from the Republic of Korea: Initiation and Expedited Preliminary Results of Antidumping Duty Changed Circumstances Review, 84 FR 9491 (March 15, 2019) (Preliminary Results).

² The domestic industry includes Nucor Corporation, Optimus Steel LLC, Keystone Consolidated Industries, Inc., and Charter Steel.

³ See Carbon and Alloy Steel Wire Rod from Italy, the Republic of Korea, Spain, the Republic of Turkey, and the United Kingdom: Antidumping Duty Orders and Amended Final Affirmative Antidumping Duty Determinations for Spain and the Republic of Turkey, 83 FR 23417 (May 21, 2018) (AD Order).

Scope of the Order

The products covered by this AD Order are certain hot-rolled products of carbon steel and alloy steel, in coils, of approximately round cross section, less than 19.00 mm in actual solid cross-sectional diameter. Specifically excluded are steel products possessing the above-noted physical characteristics and meeting the Harmonized Tariff Schedule of the United States (HTSUS) definitions for (a) stainless steel; (b) tool steel; (c) high-nickel steel; (d) ball bearing steel; or (e) concrete reinforcing bars and rods. Also excluded are free cutting steel (also known as free machining steel) products (i.e., products that contain by weight one or more of the following elements: 0.1 percent or more of lead, 0.05 percent or more of bismuth, 0.08 percent or more of sulfur, more than 0.04 percent of phosphorous, more than 0.05 percent of selenium, or more than 0.01 percent of tellurium). All products meeting the physical description of subject merchandise that are not specifically excluded are included in this scope.

Also excluded are valve spring quality (VSQ) steel products, which is defined as wire rod:

(i) Measuring no more than 14 mm in cross-sectional diameter;

(ii) Containing by weight the following elements in the proportions shown:

(1) 0.51 percent to 0.68 percent, inclusive, of carbon;

(2) Not more than 0.020 percent of phosphorus;

(3) Not more than 0.020 percent of sulfur;

(4) Not more than 0.05 percent of copper;

(5) Not more than 70 ppm of nitrogen;

(6) 0.5 percent to 0.8 percent, inclusive, of manganese;

(7) Not more than 0.1 percent of nickel;

(8) 1.3 percent to 1.6 percent, inclusive, of silicon;

(9) Not more than 0.002 percent of titanium;

(10) Not more than 0.15 percent of vanadium; and

(11) Not more than 20ppm of oxygen of product;

(iii) Having non-metallic inclusions not greater than 15 microns and meeting all of the following specific inclusions requirements using the Max-T method:

(1) No sulfide inclusions greater than 5 microns;

(2) No alumina inclusions greater than 10 microns;

(3) No silicate inclusions greater than 5 microns; and

(4) No oxide inclusions greater than 10 microns.

The size of an inclusion is its thickness perpendicular to the axis of rolling. Max-T method is used to measure the maximum thickness of all inclusions observed in a longitudinal cross-sectional sample with a minimum surface area of 60 mm2, taken at the bottom of each coil of every heat.

The products under this AD Order are currently classifiable under subheadings 7213.91.3011, 7213.91.3015, 7213.91.3020, 7213.91.3093; 7213.91.4500, 7213.91.6000, 7213.99.0030, 7227.20.0030, 7227.20.0080, 7227.90.6010, 7227.90.6020, 7227.90.6030, and 7227.90.6035 of the HTSUS. Products entered under subheadings 7213.99.0090 and 7227.90.6090 of the HTSUS also may be included in this scope if they meet the physical description of subject merchandise above. Although the HTSUS subheadings are provided for convenience and customs purposes, the written description of the scope of this AD Order is dispositive.

Final Results of Changed Circumstances Review

For the reasons stated in the Preliminary Results, and because we received no comments from interested parties to the contrary, Commerce continues to determine that domestic producers accounting for substantially all of the production of the domestic like product have no further interest in the AD Order with respect to VSQ wire rod from Korea. As a result of this determination and pursuant to section 751(d)(1) of the Tariff Act of 1930, as amended (the Act) and 19 CFR 351.222(g), we are revoking, in part, the AD Order with respect to imports of VSQ wire rod from Korea. The scope that appears in Scope of the Order section of this notice reflects this revocation, in part.

Instructions to CBP

Because we determine that there are changed circumstances that warrant the revocation of the AD Order, in part, we will instruct U.S. Customs and Border Protection to end the suspension of liquidation for the merchandise covered by the revocation on the effective date of this notice of revocation, in part, and to release any cash deposit or bond, pursuant to 19 CFR 351.222(g)(4).

Notification Regarding Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

Notification to Interested Parties

We are issuing and publishing these final results and revocation, in part, and notice in accordance with sections 751(b) and 777(i) of the Act and 19 CFR 351.216, 19 CFR 351.221(c)(3), and 19 CFR 351.222.

Dated: June 6, 2019.
Jeffrey I. Kessler,
Assistant Secretary for Enforcement and Compliance.

[FR Doc. 2019-12501 Filed 6-12-19; 8:45 am]

BILLING CODE 3510-DS-P